DEPARTMENT OF THE INTERIOR

National Park Service

[NPS-WASO-NAGPRA-NPS0039266; PPWOCRADN0-PCU00RP14.R50000]

Notice of Intended Repatriation: Sam Noble Oklahoma Museum of Natural History, Norman, OK

AGENCY: National Park Service, Interior.

ACTION: Notice.

SUMMARY: In accordance with the Native American Graves Protection and Repatriation Act (NAGPRA), the Sam Noble Oklahoma Museum of Natural History (SNOMNH) intends to repatriate certain cultural items that meet the definition of unassociated funerary objects and that have a cultural affiliation with the Indian Tribes or Native Hawaiian organizations in this notice.

DATES: Repatriation of the cultural items in this notice may occur on or after January 29, 2025.

ADDRESSES: Dr. Marc Levine, Associate Curator of Archaeology, Sam Noble Oklahoma Museum of Natural History, University of Oklahoma, 2401 Chautauqua Avenue, Norman, OK 73072-7029, telephone (405) 325-1994, email mlevine@ou.edu.

SUPPLEMENTARY INFORMATION: This notice is published as part of the National Park Service's administrative responsibilities under NAGPRA. The determinations in this notice are the sole responsibility of the SNOMNH, and additional information on the determinations in this notice, including the results of consultation, can be found in the summary or related records. The National Park Service is not responsible for the determinations in this notice.

Abstract of Information Available

A total of 731 cultural items from four sites have been requested for repatriation.

The 138 unassociated funerary objects were removed from the A.W. Davis site (34Mc6) in McCurtain County, OK. Following extensive looting, the University of Oklahoma carried out excavations at the site in June and July of 1955 and transferred the objects to the Museum that same year. The 138 unassociated funerary objects include one reconstructed decorated ceramic bowl, three decorated potsherds, 133 undecorated potsherds, and one sample of hematite pigment.

The 452 unassociated funerary objects were removed from the Clement 1 site (34Mc8) in McCurtain County, OK. The site was excavated in 1941 by the Works Progress Administration (WPA) and the associated material was transferred to the Museum the same year. The 452 unassociated funerary objects include one Taylor engraved ceramic bowl, five ceramic vessels, 44 Hodges engraved potsherds, three decorated potsherds, and 399 undecorated potsherds.

The 115 unassociated funerary objects were removed from the McDonald 1 site (34Mc11) in McCurtain County, OK. This site was excavated by the WPA in 1941 and 1942, then resurveyed in 1965 by the University of Oklahoma. The associated materials were transferred to the Museum in 1965. The 115 unassociated funerary objects are 17 ceramic vessels, five bowls, four bottles, three jars, three partially reconstructed vessels, 82 potsherds, and one clay sample.

The 26 unassociated funerary objects were removed from the McDonald 2 site (34Mc12) in McCurtain County, OK. This site was excavated by the WPA in 1941 and 1942, and the associated material was transferred to the Museum in 1965. The 26 unassociated funerary objects are two ceramic bowls, two undecorated ceramic vessels, three partially reconstructed vessels, one bag of decorated potsherds, 17 sherds, and one sample of baked clay.

Determinations

The SNOMNH has determined that:

• The 731 unassociated funerary objects described in this notice are reasonably believed to have been placed intentionally with or near human remains, and are connected, either at the time of death or later, as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Caddo Nation of Oklahoma.

Requests for Repatriation

Additional written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 29, 2025. If competing requests for repatriation are received, the SNOMNH must determine the most appropriate requestor prior to repatriation. Requests for joint repatriation of the human remains and associated funerary objects are considered a single request and not competing requests. The SNOMNH is responsible for sending a copy of this notice to the Indian Tribes and Native Hawaiian organizations identified in this notice and to any other consulting parties.

Authority: Native American Graves Protection and Repatriation Act, 25 U.S.C. 3004, and the implementing regulations, 43 CFR 10.9.

Dated: December 19, 2024.
Melanie O'Brien,
Manager, National NAGPRA Program.

[FR Doc. 2024-31297 Filed 12-27-24; 8:45 am]

BILLING CODE 4312-52-P